DEPARTMENT OF HEALTH AND HUMAN SERVICES

Office of the National Coordinator for Health Information Technology; American Health Information Community Confidentiality and Security Workgroup Meeting

ACTION: New Meeting Date.

SUMMARY: This notice announces the rescheduled date of the first meeting of the American Health Information Community Confidentiality and Security Workgroup in accordance with the Federal Advisory Committee Act (Pub. L. 92-463, 5 U.S.C., App.). The Confidentiality and Security Workgroup was created by the American Health Information Community as a cross-cutting Workgroup comprised of privacy, security, clinical, and technical experts, as well as representation from the consumer perspective.

New Date Time: August 21, 2006, 1 p.m. to 4 p.m. This meeting was previously scheduled to be held on August 4, 2006.

ADDRESSES: Mary C. Switzer Building (330 C Street, SW, Washington, DC 20201), Conference Room 4090.

FOR FURTHER INFORMATION CONTACT: http://www.hhs.gov/healthit/ahic/workgroups.html.

SUPPLEMENTARY INFORMATION: The meeting will be available via Web cast at http://www.eventcenterlive.com/cfmx/ec/login/login1.cfm?BID=67.

Dated: August 3, 2006.
Judith Sparrow,
Director, American Health Information Community, Office of Programs and Coordination, Office of the National Coordinator for Health Information Technology.

[FR Doc. 06-6916 Filed 8-14-06; 8:45 am]

BILLING CODE 4150-24-M